DEPARTMENT OF COMMERCE

Bureau of Industry and Security

15 CFR Part 744

[Docket No.041103304-4304-01]

RIN 0694-AD12

Entity List: Removal of Four Russian Entities

AGENCY: Bureau of Industry and Security, Commerce.

ACTION: Final rule.

SUMMARY: This final rule amends the Export Administration Regulations by removing four Russian entities from the Entity List, and by removing certain license requirements for exports and reexports to these entities, in conformance with a determination of the Department of State to remove nonproliferation measures imposed on these entities in 1998 and 1999.

DATES: This rule is effective November 15, 2004.

ADDRESSES: You may submit comments, identified by RIN 0694-AD12, by any of the following methods:

• E-mail: scook@bis.doc.gov. Include “RIN 0694-AD12” in the subject line of the message.

• Fax: (202)482-3355

• Mail or Hand Delivery/Courier: Sharron Cook, U.S. Department of Commerce, Bureau of Industry and Security, Regulatory Policy Division, 14th & Pennsylvania Avenue, NW., Room 2705, Washington, DC 20230, ATTN: RIN 0694-AD12.

FOR FURTHER INFORMATION CONTACT: Eileen M. Albanese, Office of Exporter Services, Bureau of Industry and Security, Telephone: (202) 482-0436.

SUPPLEMENTARY INFORMATION:

Background

In 1998 and 1999, the Department of Commerce imposed license requirements on four Russian entities, under section 744.10 of the Export Administration Regulations (EAR), in conformance with determinations by the Department of State that these entities had engaged in nuclear or missile technology proliferation activities that required the imposition of measures pursuant to Executive Order 12938, as amended (“Proliferation of Weapons of Mass Destruction”). These entities were added to the Entity List, set forth in Supplement No. 4 to part 744 of the EAR, as follows:

1. Europalace 2000

2. Grafit (aka State Scientific Research Institute of Graphite or NIIGRAFIT)

3. MOSO Company

4. The Scientific Research and Design Institute of Power Technology (aka NIKIET, Research and Development Institute of Power Engineering (RDIPE), and ENTEK).

The Department of State made its determination with regard to, and imposed nonproliferation measures against, Europalace 2000, Grafit, and MOSO Company on July 30, 1998 (63 FR 42089). BIS imposed conforming license requirements on these three entities under the EAR on July 29, 1998 (63 FR 40363). The Department of State made its determination with regard to, and imposed nonproliferation measures against, the Scientific Research and Design Institute of Power Technology on January 8, 1999 (64 FR 2935), and BIS imposed license requirements on this entity under the EAR on March 26, 1999 (64 FR 14605).

On March 23, 2004, the Department of State determined that it is in the foreign policy and national security interests of the United States to remove nonproliferation measures imposed on these four Russian entities (69 FR 17262). In conformance with this determination, this final rule removes the license requirements under section 744.10 for exports and reexports to these entities, and removes these entities from the Entity List.

The removal of these entities from the Entity List eliminates the license requirements under section 744.10 of the EAR for exports and reexports to these entities. However, license requirements for exports and reexports set forth in part 744 still apply to these entities when the exporter or reexporter knows that the item will be used in a prohibited activity. BIS strongly urges the use of Supplement No. 3 to part 732 of the EAR, “BIS's ‘Know Your Customer’ Guidance and Red Flags” when exporting or reexporting.

Although the Export Administration Act expired on August 20, 2001, Executive Order 13222 of August 17, 2001 (66 FR 44025, August 22, 2001), extended by the Notice of August 6, 2004, 69 FR 48763 (August 10, 2004), continues the EAR in effect under the International Emergency Economic Powers Act.

Rulemaking Requirements

1. This final rule has been determined to be not significant for purposes of E.O. 12866.

2. Notwithstanding any other provision of law, no person is required to respond to, nor shall any person be subject to a penalty for failure to comply with a collection of information, subject to the requirements of the Paperwork Reduction Act of 1995 (44 U.S.C. 3501 et seq.) (PRA), unless that collection of information displays a currently valid Office of Management and Budget (OMB) Control Number. This rule involves a collection of information subject to the PRA. This collection has been approved by OMB under control number 0694-0088, “Multi-Purpose Application,” which carries a burden hour estimate of 58 minutes for a manual or electronic submission. Send comments regarding these burden estimates or any other aspect of these collections of information, including suggestions for reducing the burden, to David Rostker, Office of Management and Budget (OMB), by e-mail to David_Rostker@omb.eop.gov, or by fax to (202)395-7285; and to the Office of Administration, Bureau of Industry and Security, Department of Commerce, 14th and Pennsylvania Avenue, NW., Room 6883, Washington, DC 20230.

3. This rule does not contain policies with Federalism implications as that term is defined under E.O. 13132.

4. The provisions of the Administrative Procedure Act (5 U.S.C. 553) requiring notice of proposed rulemaking, the opportunity for public participation, and a delay in effective date, are inapplicable because this regulation involves a military and foreign affairs function of the United States (5 U.S.C. 553(a)(1)). Further, no other law requires that a notice of proposed rulemaking and an opportunity for public comment be given for this final rule. Because a notice of proposed rulemaking and an opportunity for public comment are not required to be given for this rule under the Administrative Procedure Act or by any other law, the analytical requirements of the Regulatory Flexibility Act (5 U.S.C. 601 et seq.) are not applicable.

Therefore, this regulation is issued in final form. Although there is no formal comment period, public comments on this regulation are welcome on a continuing basis. Please refer to the ADDRESSES section cited above for comment submission.

List of Subjects in 15 CFR Part 744

Exports, Foreign trade, Reporting and recordkeeping requirements.

Accordingly, part 744 of the Export Administration Regulations (15 CFR parts 730-799) is amended as follows:

PART 744—[AMENDED]

1. The authority citation for 15 CFR part 744 continues to read as follows:

Authority: 50 U.S.C. app. 2401 et seq.; 50 U.S.C. 1701 et seq.; 22 U.S.C. 3201 et seq.; 42 U.S.C. 2139a; Sec. 901-911, Pub. L. 106-387; Sec. 221, Pub. L. 107-56; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of November 9, 2001, 66 FR 56965, 3 CFR, 2001 Comp., p. 917; Notice of August 6, 2004, 69 FR 48763 (August 10, 2004).

2. Supplement No. 4 to part 744 is amended by removing entries for the entities “Europalace 2000, Moscow,” “Grafit (a.k.a. State Scientific Research Institute of Graphite or NIIGRAFIT), 2 Ulitsa Elektrodnaya, 111524, Moscow,” “MOSO Company, Moscow,” and “The Scientific Research and Design Institute of Power Technology (a.k.a. NIKIET, Research and Development Institute of Power Engineering (RDIPE), and ENTEK) (including at 101000, P.O. Box 788, Moscow, Russia)” under the country of “Russia”.

Dated: November 8, 2004.
Peter Lichtenbaum,
Assistant Secretary for Export Administration.

[FR Doc. 04-25308 Filed 11-12-04; 8:45 am]

BILLING CODE 3510-33-P